DEPARTMENT OF DEFENSE

Office of the Secretary

[Transmittal Nos. 10-79]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Mr. John Unglesbee, DSCA/DBO/CFM, (703) 601-6026.

The following is a copy of a letter to the Speaker of the House of Representatives, Transmittal 10-79 with attached transmittal, policy justification, and Sensitivity of Technology.

Dated: July 5, 2011.
Aaron Siegel,
Alternate OSD Federal Register Liaison Officer, Department of Defense.

BILLING CODE 5001-06-P

BILLING CODE 5001-06-C

Transmittal No. 10-79

Notice of Proposed Issuance of Letter of Offer Pursuant to Section 36(b)(1) of the Arms Export Control Act, as Amended

(i) Prospective Purchaser: United Arab Emirates

(ii) Total Estimated Value:

Major Defense Equipment*—$171 million

Other—$46 million

TOTAL—$217 million

(iii) Description and Quantity or Quantities of Articles or Services under Consideration for Purchase: 5 UH-60M BLACKHAWK VIP helicopters, 12 T700-GE-701D engines (10 installed and 2 spares), 6 AN/APR-39A(V)4 Radar Signal Detecting Sets, 80 AN/AVS-9 Night Vision Devices, 6 Star Safire III Forward Looking Infrared Radar Systems, 6 AAR-57(V)3 Common Missile Warning Systems, 6 AN/AVR-2B Laser Warning Sets, C406 Electronic Locator Transmitters, Traffic Collision Avoidance Systems and Weather Radars, Aviation Mission Planning Station, government furnished equipment, ferry support, spare and repair parts, publications and technical documentation, support equipment, personnel training and training equipment, ground support, communications equipment, U.S. Government and contractor technical and logistics support services, tools and test equipment, and other related elements of logistics support.

(iv) Military Department: Army (ZUE, Amendment #3).

(v) Prior Related Cases, if any:

FMS Case ZUE—$811M—20Aug07

FMS Case ZUE(A1)—$450M—20Apr09

(vi) Sales Commission, Fee, etc., Paid, Offered, or Agreed to be Paid: None.

(vii) Sensitivity of Technology. Contained in the Defense Article or Defense Services Proposed to be Sold: See Annex attached.

(viii) Date Report Delivered to Congress:

* As defined in Section 47(6) of the Arms Export Control Act.

Policy Justification

United Arab Emirates—UH-60M BLACKHAWK Helicopters

The Government of the United Arab Emirates (UAE) has requested a possible sale of 5 UH-60M BLACKHAWK VIP helicopters, 12 T700-GE-701D engines (10 installed and 2 spares), 6 AN/APR-39A(V)4 Radar Signal Detecting Sets, 80 AN/AVS-9 Night Vision Devices, 6 Star Safire III Forward Looking Infrared Radar Systems, 6 AAR-57(V)3 Common Missile Warning Systems, 6 AN/AVR-2B Laser Warning Sets, C406 Electronic Locator Transmitters, Traffic Collision Avoidance Systems and Weather Radars, Aviation Mission Planning Station, government furnished equipment, ferry support, spare and repair parts, publications and technical documentation, support equipment, personnel training and training equipment, ground support, communications equipment, U.S. Government and contractor technical and logistics support services, tools and test equipment, and other related elements of logistics support. The estimated cost is $217 million.

This proposed sale will contribute to the foreign policy and national security of the United States by meeting the legitimate security and defense needs of a partner nation that, has been and continues to be an important force for peace, political stability, and economic progress in the Middle East.

The UAE will use these helicopters for intra-country transportation of UAE officials to militarily critical training and operation sites. The UH-60M BLACKHAWK helicopters will enhance the safety of key UAE personnel by providing for the detection and avoidance of rocket/missile attacks by indigenous or foreign terrorist elements. The UAE will have no difficulty absorbing these helicopters into its armed forces.

The proposed sale of this equipment and support will not alter the basic military balance in the region.

The principal contractors will be: Sikorsky Aircraft Corporation of Stratford, Connecticut, and General Electric Aircraft Company of Lynn, Massachusetts. The purchaser has requested offsets; however, at this time, agreements are undetermined and will be defined in negotiations between the purchaser and contractor.

Implementation of this proposed sale will require the deployment of a minimum of two Contractor Field Service representatives to the United Arab Emirates for approximately two years after initial fielding to assist in the delivery and deployment of the helicopters.

There will be no adverse impact on U.S. defense readiness as a result of this proposed sale.

Transmittal No. 10-79

Notice of Proposed Issuance of Letter of Offer Pursuant to Section 36(b)(1) of the Arms Export Control Act

Annex

Item No. vii

(vii) Sensitivity of Technology:

1. The UH-60M BLACKHAWK helicopters contain communications and identification equipment, navigation equipment, aircraft survivability equipment, displays and sensors. The airframe itself does not contain sensitive technology. The highest level of classified information to be released for training, operation and maintenance of the BLACKHAWK helicopters is Unclassified. The highest level that could be revealed through reverse engineering or testing of the end item is Secret. The UH-60M BLACK HAWK helicopters will include the following pertinent equipment listed below, either installed on the aircraft or included in the proposed sale:

a. The AN/APR-39A(V)4 Radar Signal Detecting Set is a system which provides warning of a radar directed air defense threat to allow appropriate countermeasures. Hardware is classified Confidential when programmed with United States threat data; releasable technical manuals for operation and maintenance are classified Confidential; releasable technical data (technical performance) is classified Secret. The system can be programmed with threat data provided by the purchasing country.

b. The AN/AVR-2B Laser Warning Set is a passive laser warning system that receives, processes and displays threat information resulting from aircraft illumination by lasers on the multi-functional display. The hardware is classified Confidential; releasable technical manuals for operation and maintenance are classified Secret. Reverse engineering is not a major concern.

c. The AAR-57 Common Missile Warning System is a passive laser warning system that receives, processes, and displays threat information resulting from aircraft illumination by lasers on the multi-functional display. The Dispenser components and Payload Module components dispense expendables/decoys to enhance aircraft survivability. The system is designed to employ countermeasures according to a program developed and implemented by the aircrew. Radar cross-section and frequency coverage are sensitive elements. The hardware is Unclassified. Releasable technical publications for operation and maintenance are classified Secret. Aircraft optimization is the critical element; reverse engineering is not a major concern. Additional components are the Control Panel and the Electronics Module that have been integrated in the Weapons Management and Control software.

d. The Star Safire III Electro-Optical System is a long-range, multi-sensor infrared imaging radar system. It is considered non-standard equipment for the UH-60 BLACKHAWK helicopter. It will be used to enhance night flying and provide a level of safety for the VIP passengers during night flights. The hardware is Unclassified. Rangefinder performance and signal transfer function for the Infrared Imager are considered Confidential.

2. If a technologically advanced adversary were to obtain knowledge of the specific hardware or software in this proposed sale, the information could be used to develop countermeasures which might reduce weapon system effectiveness or be used in the development of a system with similar or advance capabilities.

[FR Doc. 2011-17242 Filed 7-8-11; 8:45 am]

BILLING CODE 5001-06-P